DEPARTMENT OF TRANSPORTATION

Federal Highway Administration

[FHWA Docket No. FHWA-2006-23550]

Interstate Oasis Program

AGENCY: Federal Highway Administration (FHWA), DOT.

ACTION: Notice.

SUMMARY: The FHWA is issuing this approved final Interstate Oasis Program policy document. Section 1310 of the Safe, Accountable, Flexible, Efficient Transportation Equity Act: A Legacy for Users (SAFETEA-LU) (Public Law 109-59, August 10, 2005) requires the Secretary of Transportation to develop standards for designating certain facilities as Interstate Oases and to design a uniform logo for such designated facilities. After consideration of public comments on a draft program and policy document, the FHWA has finalized the policies for the Interstate Oasis program.

DATES: Effective Date: October 18, 2006.

FOR FURTHER INFORMATION CONTACT: Mr. Hari Kalla, (202) 366-5915, Office of Transportation Operations, HOTO, or Mr. Robert Black, Office of the Chief Counsel, HCC-30, (202) 366-1359. The FHWA office hours are from 7:45 a.m. to 4:15 p.m. e.t., Monday through Friday, except Federal holidays. The offices are located at 400 Seventh Street SW., Washington, DC 20590.

SUPPLEMENTARY INFORMATION:

Electronic Access

An electronic copy of this notice may be downloaded Bulletin Board Service from the Office of the Federal Register's home page at http://www.archives.gov and the Government Printing Office's Web site at http://www.access.gpo.gov. An electronic version of the Interstate Oasis program document may be downloaded at the FHWA Web site: http://mutcd.fhwa.dot.gov/res-policy.htm.

Outline

• Background on the Interstate Oasis Program.

• Actions Taken to Date.

• Comments and Responses on the Draft Interstate Oasis Program.

○ General Comments.

○ Eligibility Criteria.

○ Signing.

○ Education and Marketing.

Background on the Interstate Oasis Program

Prior to the enactment of SAFETEA-LU, the FHWA was in the process of investigating a number of issues relating to rest areas on the Interstate System, in response to a provision in the Joint Explanatory Statement of the Committee of Conference (House Report 106-355) that accompanied the Department of Transportation and Related Agencies Appropriations Act, 2000 (Pub. L. 106-69, 113 Stat. 986). Of particular concern is the limited availability in some areas of sufficient opportunities for road users to stop and rest that created safety concerns related to increased driver fatigue. Insufficient truck parking has also been found to be a significant problem in some States at rest areas on the Interstate system, on local road systems near interchanges with Interstate highways, and at adjoining businesses. Commercialization of existing Interstate highway public rest areas to allow private firms to provide services such as those found in “service plazas” on many toll roads and turnpikes, in exchange for private responsibility for maintenance and operation of the rest areas, has been advocated by some States and by the American Association of State Highway and Transportation Officials (AASHTO) to reduce the financial burden of maintaining public rest areas. However, such commercialization is not authorized by current laws and regulations and is strongly opposed by business interests located off the Interstate system.

In August 2005, SAFETEA-LU was enacted. Section 1310 of SAFETEA-LU, entitled “Interstate Oasis Program,” requires the FHWA to establish an Interstate Oasis program and, after providing an opportunity for public comment, develop standards for designating as an Interstate Oasis a facility that, at a minimum, offers products and services to the public, 24-hour access to restrooms, and parking for automobiles and heavy trucks. Section 1310 also requires the FHWA to design a logo to be displayed by a designated Interstate Oasis facility. Further, Section 1310 requires that, if a State elects to participate in the Interstate Oasis program, any facility meeting the standards for designation shall be eligible for designation as an Interstate Oasis.

The Interstate Oasis program is also expected to help further the goals of the Secretary of Transportation's new National Strategy to Reduce Congestion on America's Transportation Network, announced on May 16, 2006.¹ We anticipate that the Interstate Oasis program will increase the availability of truck parking, thereby reducing the occurrence of truck parking on the shoulders of Interstate highways that could be contributing to congestion.

¹ Speaking before the National Retail Federation's annual conference on May 16, 2006, in Washington, DC, former U.S. Transportation Secretary Norman Mineta unveiled a new plan to reduce congestion plaguing America's roads, rail, and airports. The National Strategy to Reduce Congestion on America's Transportation Network includes a number of initiatives designed to reduce transportation congestion. The transcript of these remarks is available at the following URL: http://www.dot.gov/affairs/minetasp051606.htm

Actions Taken to Date

On February 27, 2006, the FHWA published a notice in the Federal Register (71 FR 9855), providing a draft policy for the Interstate Oasis Program, posing nine specific questions to help refine and finalize the program, and requesting public comments (FHWA Docket No. FHWA-2006-23550). After careful analysis of all comments received, the FHWA has decided to finalize and issue the Interstate Oasis Program and Policy. A variety of relatively minor changes have been made in the program and policy to add clarity and incorporate suggested improvements from insightful comments regarding the draft. Also, the final Interstate Oasis Program and Policy reflects the legislated requirements of Section 1310 of SAFETEA-LU by use of the word “shall” where appropriate. The FHWA intends that the Interstate Oasis Program and Policy in its entirety be considered as the criteria for designating and signing a facility as an Interstate Oasis.

Comments and Responses on the Draft Interstate Oasis Program

The following discussion is a summary of significant comments received on the draft program document and the specific questions posed in the February 27, 2006, notice and the FHWA's responses on how the concerns and/or issues raised were considered and addressed.

We received comments from 39 entities, including eight national associations, 13 State transportation agencies, one State environmental agency, one State social services agency, one local government agency, three private companies, and 12 private individuals. The national associations included the Advocates for Highway and Auto Safety (AHAS), the American Association of State Highway and Transportation Officials (AASHTO), the International Association of Chiefs of Police (IACP), the Motorist Information Services Association (MISA), the National Association of County Engineers (NACE), the National Association of Truck Stop Operators (NATSO), the National Federation of the Blind (NFB), and the Owner-Operator Independent Drivers Association (OOIDA).

Many comments were general in nature and are summarized and addressed collectively under the General Comments heading. Many comments included recommendations related to one or more of the potential eligibility criteria, certain potential signing practices, or recommended educational and marketing efforts, in response to the language of the draft program policy and/or the specific questions posed in the February 27, 2006, notice. These comments are summarized and addressed under the Eligibility Criteria, Signing, and Education and Marketing headings, as appropriate.

All comments and recommendations have been read and considered by the FHWA. A number of the comments received focused on the trend for some States to consider closing some of their public rest areas due to economic or other issues and expressed concerns that the designation of Interstate Oasis facilities off the Interstate highway rights-of-way might encourage further closures of public rest areas. Interstate Oases are not intended to replace public rest areas, and these concerns are beyond the scope of this effort and have not been addressed in this document.

General Comments

Many commenters expressed overall support for the program. They generally recognized and noted the potential benefits of the program, such as increased opportunities for stopping and using restroom facilities without the obligation to purchase anything, increased parking for heavy trucks to enable drivers to rest for up to 10 hours to satisfy legal requirements,² and improved safety due to reductions in driver fatigue accruing from the increased stopping opportunities.

² The Federal Motor Carrier Safety Administration (FMCSA) regulates maximum hours of service by certain motor carriers and drivers. The regulations are contained in 49 CFR 395.

Only four comments received can be characterized as in general opposition to this program. The NFB and the Louisiana Department of Social Services opposed the program because of the potential impacts to blind individuals who operate vending machines at public rest areas under the priority provisions of the Randolph-Sheppard Act (20 U.S.C. 107 et seq.) This concern, which is related to potential closures of public rest areas, is beyond the scope of this effort and has not been addressed in this document.

The Iowa Department of Transportation (IA DOT) opposed the program, stating a lack of need for it in view of the existing Specific Services Signing program for food, gas, and lodging, and the anticipated pressure on the agency to participate in the program if it is established. One individual opposed the program on the basis of concerns that truck stops are “scary places” for females. The FHWA believes that the eligibility criteria will result in various types of establishments, not just truck stops, being designated as Interstate Oases and that the States will assure that designated facilities provide a reasonable degree of safety and comfort for all users.

The AASHTO, AHAS, and Minnesota Department of Transportation (MN DOT) suggested that the policy should put more emphasis on the safety benefits of the program in providing for truck parking and driver rest. In response, the FHWA has added a paragraph to the program and policy to clarify its purpose.

The NACE expressed concern about the possible impacts of the program on local road agencies such as county governments, in terms of heavy truck traffic on local roads to access an Oasis, added workload for the local government if it is involved in the review and decisionmaking process for designation of a facility as an Oasis, and possible costs for trailblazing signs along local roads. The FHWA believes that States electing to participate in the Interstate Oasis program will work with their local government agencies as appropriate to ameliorate any of these potential impacts associated with local roads.

Comments on Eligibility Criteria

Maximum Distance from Interchange: There was not a clear consensus among the commenters regarding the proposed normal maximum distance of 3 miles from an interchange. Ten commenters were in favor of that distance while eight stated a preference for 1 mile, three suggested ½ mile, two favored some unspecified distance less than 3 miles, and one preferred some unspecified distance greater than 3 miles. Most commenters supported flexibility for States to extend the maximum distance in unusual circumstances, such as in very sparsely developed rural areas where the nearest eligible facility is not within 3 miles from the exit but road users would nevertheless benefit from the opportunity to park, use rest rooms, and rest to reduce fatigue, even if they must travel more than 3 miles off the Interstate highway to reach the Oasis. Many who supported the flexibility to extend the distance beyond 3 miles recommended signs on the ramp indicating the mileage to the Oasis and trailblazing signs along the access highway.

The FHWA believes that 3 miles is a reasonable maximum distance under most conditions and retains 3 miles as the normal maximum. The FHWA also believes the public will benefit from allowing extensions of this distance in some cases and therefore has added a provision to allow the States to consider greater distances, in 3-mile increments up to 15 miles, in such unusual rural circumstances. This approach is similar to that allowed for eligibility in the Specific Service Signing program. Distances on ramp signs and trailblazing on the access route are discussed under the Signing heading.

Adequacy of Access Route to Oasis: The draft policy stated that an Oasis facility must be safely and conveniently accessible, as determined by an engineering study, via highways that are unrestricted as to vehicle weight or type, size, or weight. In response to one of the questions posed in the February 27, 2006, notice, the majority of commenters indicated that more specific criteria should be stated for the States to use in their engineering studies to assess the safety and convenience of the access route.

The FHWA agrees and has modified the policy to indicate that the engineering study should take into consideration the Transportation Research Board's 2003 “Access Management Manual” ³ and the applicable criteria of AASHTO's “Policy on Geometric Design of Highways and Streets” ⁴ (Green Book) or, in the case of highways not on the National Highway System, the applicable State design standards. The FHWA believes that these documents contain the proper guidance and discussion of issues to consider for this kind of a study.

³ “Access Management Manual,” 2003, available for purchase from the Transportation Research Board at Keck Center of the National Academies, 500 Fifth Street, NW, Washington, DC 20001, or online at http://gulliver.trb.org/bookstore/.

⁴ “Policy on Geometric Design of Streets and Highways,” fifth edition, 2004, available for purchase from the American Association of State Highway and Transportation Officials, 444 North Capitol Street, NW, Suite 249, Washington, DC 20001, or online at https://bookstore.transportation.org/.

The AHAS objected to the draft criterion that the access route be unrestricted as to vehicle type, size, or weight, stating that this implies that current Federal and State size and weight restrictions can be disregarded for travel on access routes to Oases. The AHAS further stated that this criterion would undermine or pre-empt State authority to preserve certain lower class roads from damage and safety concerns posed by certain heavy trucks.

The FHWA disagrees with that position and believes that the AHAS has misinterpreted the intent of the criterion. The policy intends that, if a State has enacted special restrictions on a particular section of highway or bridge, such as a maximum weight limit or maximum length of vehicle, that is more restrictive than what is legal in the State for unrestricted roads of that class, a facility that is accessible only via that specially restricted section or highway or bridge would not be eligible for designation as an Oasis. Some States may allow certain very heavy trucks to operate only on the Interstate and National Highway systems and not on roads of lesser classification. Such trucks would in many cases still be able to access an Oasis under rules of “reasonable access” to facilities for food, fuel, and rest as provided in the Code of Federal Regulations at 23 CFR 658.19, as long as a special weight limit, such as for a structurally substandard bridge, is not posted on the access route. We have clarified the language of the policy, indicating that the facility shall be accessible via a route that an engineering study determines can safely and conveniently accommodate vehicles of the types, sizes, and weights that would be traveling to the facility, and that the study should take into account the rules for reasonable access as per 23 CFR 658.19.

Adequacy of On-Site Circulation and Ingress/Egress: The draft policy also stated that an Oasis facility must have physical site geometry, as determined by an engineering study, to safely and efficiently accommodate all vehicles, including heavy trucks of the size and weight anticipated to use the facility. The majority of commenters indicated that more specific criteria should be stated for the States to use in their engineering studies to assess the safety and efficiency of the site geometry, including driveway access points.

The Minnesota Department of Transportation (MN DOT) recommended that a WB-62 design vehicle ⁵ be specified for the site assessment. The FHWA agrees with these points and has modified the policy to indicate that the engineering study should take into consideration the Transportation Research Board's 2003 “Access Management Manual,” the AASHTO “Guide for Development of Rest Areas on Major Arterials and Freeways,” ⁶ and other pertinent geometric design criteria for vehicles at least as large as a WB-62. These documents contain appropriate guidance for assessment of existing sites as well as design of new sites, and the WB-62 is the most commonly used truck size for geometric design.

⁵ Information about the WB-62 design vehicle and how it is used in geometric design of highways and intersections is contained in “Policy on Geometric Design of Streets and Highways,” fifth edition, 2004, available for purchase from the American Association of State Highway and Transportation Officials, 444 North Capitol Street, NW, Suite 249, Washington, DC 20001, or online at https://bookstore.transportation.org/.

⁶ “Guide for Development of Rest Areas on Major Arterials and Freeways,” third edition, 2001, available for purchase from the American Association of State Highway and Transportation Officials, 444 North Capitol Street, NW, Suite 249, Washington, DC 20001, or online at https://bookstore.transportation.org/.

Number of Parking Spaces: Seven commenters indicated that States should be given total flexibility to decide on a case-by-case basis how many parking spaces should be required for various vehicle types to qualify as an Oasis. However, 15 commenters stated that the determination of adequacy should be guided by the national criteria. Of those 15, most favored a formula-based approach rather than specific minimum numbers of spaces and some cited the AASHTO “Guide for Development of Rest Areas on Major Arterials and Freeways” as containing a well-researched formula for this specific purpose. The formula accounts for traffic volumes on the Interstate, percentage of trucks, length of stay, and other factors affecting demand.

The FHWA agrees with this approach and has modified the policy accordingly. The OOIDA and two States commented that the parking spaces at Oases should be free of charge. Although not specifically stated in the draft policy, that was intended and the FHWA has clarified the policy to specifically state that the parking spaces should be free of charge.

Required Products and Services: The draft policy stated that, to be eligible, a facility should provide a public telephone, food (vending, snacks, fast food, and/or full service), and fuel, oil, and water for automobiles and trucks. One of the questions in the February 27, 2006, notice asked whether there are other products or services that should be considered essential for designation as an Oasis. Some commenters suggested adding requirements, such as picnic tables, pet walk areas, wireless internet, cell phone service, security patrols, electrical power hookups for vehicle heating and air conditioning, etc. A few commenters suggested that requirements for food, fuel, and water should be deleted in the interest of making the Oases more like a public rest area and/or making it easier for potential facilities to qualify. Two States suggested eliminating the requirement for a public phone because of increasing cell phone use. However, the majority of commenters stated that the products and services outlined in the draft policy are appropriate, no others are essential, and individual operators of designated Oases will likely decide on their own to provide additional services or products as determined by the market.

The FHWA has decided to retain the products and services as stated in the draft policy, including public phone, and not add any others. Although cell phone use is increasing rapidly, it is by no means universal and there are many areas where cell phone service is unreliable or unavailable. Further, a public phone remains an essential service for those who do not have a cell phone.

Flexibility to Consider Combined Services of More than One Business: In response to a question posed in the February 27, 2006, notice, commenters were equally divided between allowing and not allowing States the flexibility to consider the products and services of a combination of two or more businesses at an interchange when all the criteria cannot be met by any one business at that interchange. The AASHTO, MISA, and eight State DOTs were among those opposed to this flexibility, while OOIDA, NATSO, and five State DOTs were among those in favor under at least some circumstances. Many of those in favor of flexibility recommended that the businesses be located immediately adjacent to each other and be easily accessible on foot from each other's parking lots without having to cross a public highway, such that a vehicle could park once and easily walk to obtain all services.

The FHWA believes it is in the best interest of the traveling public to allow States this flexibility and has modified the policy accordingly.

Additional State Criteria: The draft policy stated that States may impose additional minimum eligibility criteria beyond those of the national minimums. Several commenters objected to this, stating that allowing States to require the provision of additional products or services or to impose additional minimum requirements for eligibility would unduly limit participation by businesses and compromise uniformity in terms of meeting road user expectations. The FHWA agrees and has modified the policy to preclude States from imposing additional eligibility criteria.

Comments on Signing

Interstate Oasis Name: In the February 27, 2006, notice, one of the questions asked whether the name “Interstate Oasis” will be readily understood by the public and identified with the types of service offered, or whether some other name for the facilities would better serve the public. Comments received on this question were nearly evenly divided. Eleven commenters, including AASHTO, favored “Interstate Oasis” while ten commenters, including NATSO and OOIDA, favored some other name. Among those favoring something other than “Interstate Oasis,” there was a wide variety of suggested names but no consensus. While some suggested that the Utah or Vermont names of “Rest Stop” or “Rest Exit” should be used, others stated that such names would be confusing because they are very similar to “Rest Area” but the facilities are much different from public rest areas. The California and Pennsylvania DOTs expressed concern that the word “Interstate” in the program name would preclude its application to non-Interstate freeways.

The FHWA believes that Interstate Oasis will, after an introductory acclimation period, become familiar to and understood by road users. The FHWA also believes the program should be limited, at least initially, to Interstate highways as directed in the SAFETEA-LU Section 1310 language. Therefore the FHWA retains the “Interstate Oasis” as the program name and signing designation.

Symbol or Logo: In response to the question about what symbol (logo) should be used to indicate an Interstate Oasis, 15 commenters, including AASHTO and 4 State DOTs, favored the use of some symbol. Eight of those 15 commenters suggested a palm tree, while others suggested a wide variety of different logos. Four of the 15 commenters recommended that the symbol should not be used alone and that it should be accompanied by words as an educational measure until the symbol becomes widely known. Seven commenters, including the AHAS, MISA, and three State DOTs, pointed out that any new symbol for use on official traffic signs cannot be adopted by FHWA unless the Manual on Uniform Traffic Control Devices (MUTCD) ⁷ is revised to include the new symbol, and that MUTCD revisions can only be made via the rulemaking process outlined in the Administrative Procedure Act (5 U.S.C. 551 et al.). Some commenters also recommended that human factors evaluations be conducted before a new symbol is proposed for addition to the MUTCD, in order to assure that a new symbol is optimized for conspicuity and legibility at freeway speeds.

⁷ The MUTCD, approved by the FHWA, is the national standard for all traffic control devices installed on any street, highway, or bicycle trail open to public travel. The MUTCD is available for viewing and printing online at http://mutcd.fhwa.dot.gov.

The FHWA believes that the symbol to represent the Interstate Oasis should be some form of one or more palm trees, as eventually determined by human factors evaluations of various potential designs. However, the FHWA agrees that after such evaluations and refinement, the FHWA would propose to include the symbol in the MUTCD for use on guide signs through the rulemaking process. Therefore, the FHWA has determined that, for initial implementation by States, only the word message “Interstate Oasis” should be used on guide signs to indicate an exit with one or more Oasis facilities. The policy has been modified accordingly.

Signing on the Freeway: Several commenters expressed concerns about multiple methods of signing to denote the availability of an Oasis at an exit and the potential for the lack of a single uniform signing method to result in road user confusion or safety impacts. Many commenters specifically objected to the proposed signing option to use a “patch” on Specific Service sign business logos to denote designation as an Interstate Oasis. It was noted that the FHWA has already provided Interim Approval for use of a 12-inch circular yellow “patch” with the letters “RV” on business logos on gas, food, lodging, or camping Specific Services signs for businesses that meet “RV-friendly” criteria.⁸ The patch is placed partly on the business logo and partly on the blue background of the larger sign panel. Concerns were expressed that extension of this concept to Interstate Oases and possibly for other purposes in the future would unduly clutter the Specific Services signs and compromise sign legibility and understanding by road users.

⁸ This Interim Approval may be viewed at http://mutcd.fhwa.dot.gov/res-mem_rvf.htm.

Also, one of the questions posed in the February 27, 2006, notice asked whether States should have the flexibility to include the name or logo of a business designated as an Oasis on a separate advance sign and, if such sign is provided, should the business be disqualified from having their business logos on any Specific Service signs at the interchange. Most responses to this question indicated that the States should have the flexibility to allow the business name or logo on any separate advance sign indicating availability of an Interstate Oasis at the exit and that the business should not be disqualified from the Specific Services signing program.

In consideration of the comments received and its own experience in signing, the FHWA has revised the final policy to eliminate the patch signing concept and simplify the signing elements. The FHWA has decided that States should not include the names or logos of the Oasis businesses on the separate advance sign, because such elements would lead to significant increases in the potential for information overload, particularly at interchanges with multiple designated Oases. The recommended practice, if adequate sign spacing allows, is for a separate blue sign in advance of the exit containing the exit number and only the words “Interstate Oasis.” If there is inadequate sign spacing to enable use of the separate sign, an existing Advance Guide sign or an existing D9-18 series General Services sign for the interchange may have a supplemental blue panel with the words “Interstate Oasis” appended above or below it. If Specific Services signing is provided at the interchange, a business designated as an Interstate Oasis that has its logo on a Specific Services sign may include the word “Oasis” within its logo panel. This use of words within a business logo is similar to existing provisions in the MUTCD that allow messages within logos such as “24 Hours,” “Diesel,” etc., and was a suggestion of many commenters as being preferable to the “patch” concept. The single word “Oasis” is specified rather than the two-word phrase “Interstate Oasis” in the interest of legibility, to maximize the size of the letters used within the business logo.

Ramp Signing and Trailblazing: The draft program and policy stated that signing should be provided near the exit ramp terminal and along the cross road to guide road users from the interchange to the Interstate Oasis and back to the interchange. As noted previously in the discussion of maximum distance from the interchange under the Eligibility Criteria heading, there were many comments suggesting that road users should be provided with information about the distance they must travel from the ramp terminal to the Interstate Oasis, particularly in cases where the Oasis is located more than 3 miles away.

The MUTCD recommends that Specific Service signs on exit ramps should include the distances to the facilities, and the FHWA believes that this practice should be extended to exit ramp signs for Oasis facilities. Accordingly, the FHWA has included language in the final policy to recommend that the distance be included on the ramp signs and on any cross road trailblazing signs that are provided. The FHWA has also made other minor modifications to the language to stipulate the colors and legend size for these signs and clarify that, if the Interstate Oasis is clearly visible from the exit ramp and/or if Specific Services signs containing logos of Oasis businesses are provided on the ramp, ramp signs and trailblazing signs may not be needed.

Private signing: Comments from the NATSO suggested that the policy should clearly indicate that the Interstate Oasis logo may be displayed by designated businesses on their on-site facility and private signs, as well as their advertising media, including billboards. Although only the words “Interstate Oasis” will be used to designate a facility until such time as a symbol (logo) is adopted in the MUTCD, the need to limit the use of the official designation to those facilities approved by the State and allowing those facilities to use the designation on their private signs and advertising media is nevertheless still pertinent. The FHWA has added text to the final policy to recommend that States participating in the Interstate Oasis program should enact appropriate legislation or rules to implement these controls.

Comments on Education and Marketing

In the February 27, 2006, notice, we invited comments regarding educational and marketing efforts that may be necessary to familiarize travelers and businesses with the Interstate Oasis program. Nine of the 11 comments on this question stated the opinion that considerable or extensive marketing efforts will be needed. The suggested methods included brochures, radio and television public service announcements, flyer handouts in rest areas, weigh stations, motor vehicle licensing and permitting offices, and including information in State highway maps and commercial maps and atlases. Many commenters noted that the individual States establishing an Interstate Oasis program in their State would be in the best position to provide the educational and marketing efforts, as a part of their routine public relations programs. Commenters also recommended that the trucking industry and travel industry (including such organizations as the American Automobile Association) be involved in the educational and marketing efforts, in view of their established means of communicating with their members. The FHWA agrees with these comments and has added language to the program and policy recommending that educational and marketing efforts be undertaken by participating States, in cooperation with trucking and travel industry partners as appropriate.

Acknowledgement

The FHWA recognizes and appreciates the effort of all parties who provided comments for consideration in the development and finalization of the Interstate Oasis program.

(Authority: Sec. 1305, Pub. L. 105-59, 119 Stat. 1144; 23 U.S.C. 109(d), 315, and 402; 23 CFR 1.32 and 655.603; and 49 CFR 1.48(b).)

Issued on: October 10, 2006.
J. Richard Capka,
Federal Highway Administrator.

The text of the FHWA Interstate Oasis Program and Policy is as follows:

U.S. Department of Transportation

Federal Highway Administration (FHWA)

Final

Interstate Oasis Program and Policy

Purpose

The purpose of the Interstate Oasis program is to enhance safety and convenience for Interstate highway users by allowing States, in accordance with this policy, to designate and provide signing to certain facilities off the freeway that will provide increased opportunities for stopping to rest, using restroom facilities, and obtaining basic services.

Definition of Interstate Oasis

An Interstate Oasis shall be defined as a facility near an Interstate highway but not within the Interstate right-of-way, designated by a State after meeting the eligibility criteria of this policy, that provides products and services to the public, 24-hour access to public restrooms, and parking for automobiles and heavy trucks.

Eligibility Criteria

Interstate Oasis facilities shall comply with laws concerning:

1. The provisions of public accommodations without regard to race, religion, color, age, sex, national origin, or disability; and

2. The licensing and approval of such service facilities.

If a State elects to provide or allow Interstate Oasis signing, there should be a statewide policy, program, procedures, and criteria for the designation and signing of a facility as an Interstate Oasis. To qualify for designation and signing as an Interstate Oasis, a facility:

1. Shall be located no more than 3 miles from an interchange with an Interstate highway, except that:

a. A lesser distance may be required when a State's laws specifically restrict truck travel to lesser distances from the Interstate system; and

b. Greater distances, in 3-mile increments up to a maximum of 15 miles, may be considered by States for interchanges in very sparsely developed rural areas where eligible facilities are not available within the 3-mile limit;

2. Shall be accessible via a route that an engineering study determines can safely and conveniently accommodate vehicles of the types, sizes, and weights that would be traveling to the facility, entering and leaving the facility, returning to the Interstate highway, and continuing in the original direction of travel. The engineering study should take into consideration the processes and criteria contained in the Transportation Research Board's “Access Management Manual” ¹ (2003 or latest edition) and the applicable criteria of the most recent edition of the AASHTO “Policy on Geometric Design of Highways and Streets” ² (Green Book) or, in the case of highways not on the National Highway System, the applicable State highway design standards. The engineering study should also take into account the provisions for reasonable access by heavy vehicles to facilities for food, fuel, and rest as per 23 CFR 658.19;

¹ “Access Management Manual,” 2003, available for purchase from the Transportation Research Board at Keck Center of the National Academies, 500 Fifth Street, NW., Washington, DC 20001, or online at http://gulliver.trb.org/bookstore/.

² “Policy on Geometric Design of Streets and Highways,” fifth edition, 2004, available for purchase from the American Association of State Highway and Transportation Officials, 444 North Capitol Street, NW., Suite 249, Washington, DC 20001, or online at https://bookstore.transportation.org/.

3. Shall have physical geometry of site layout, including parking areas and ingress/egress points, that an engineering study determines can safely and efficiently accommodate movements into and out of the site, on-site circulation, and parking by all vehicles, including heavy trucks of the types, sizes, and weights anticipated to use the facility. The engineering study should assume a design vehicle at least as large as a WB-62 truck.³ The engineering study should also take into consideration the applicable criteria of the Transportation Research Board's “Access Management Manual”, the AASHTO “Guide for Development of Rest Areas on Major Arterials and Freeways” ⁴ (2001 or latest edition), and other pertinent geometric design criteria;

³ Information about the WB-62 design vehicle and how it is used in geometric design of highways and intersections is contained in “Policy on Geometric Design of Streets and Highways,” fifth edition, 2004, available for purchase from the American Association of State Highway and Transportation Officials, 444 North Capitol Street, NW., Suite 249, Washington, DC 20001, or online at https://bookstore.transportation.org/.

⁴ “Guide for Development of Rest Areas on Major Arterials and Freeways,” third edition, 2001, available for purchase from the American Association of State Highway and Transportation Officials, 444 North Capitol Street, NW., Suite 249, Washington, DC 20001, or online at https://bookstore.transportation.org/.

4. Shall have restrooms available to the public at all times (24 hours per day, 365 days per year). Restrooms should be modern and sanitary and should have drinking water. The restrooms and drinking water should be available at no charge or obligation;

5. Shall have parking spaces available to the public for automobiles and heavy trucks. The parking spaces should be well lit and should be available at no charge or obligation for parking durations of up to 10 hours or more, in sufficient numbers for the various vehicle types, including heavy trucks, to meet anticipated demands based on volumes, the percentage of heavy vehicles in the Interstate highway traffic, and other pertinent factors as described in formulas contained in the AASHTO “Guide for Development of Rest Areas on Major Arterials and Freeways” (2001 or latest edition);

6. Shall provide products and services to the public. These products and services should include:

a. Public telephone;

b. Food (vending, snacks, fast food, and/or full service); and

c. Fuel, oil, and water for automobiles, trucks, and other motor vehicles; and

7. Should be staffed by at least one person on duty at all times (24 hours per day, 365 days per year).

In cases where no single business near an interchange meets all the eligibility criteria, a State policy may allow the criteria to be satisfied by a combination of two or more businesses located immediately adjacent to each other and easily accessible on foot from each other's parking lots via pedestrian walkways compliant with the Americans for Disabilities Act (ADA) and that do not require crossing a public highway.

If a State elects to provide or allow Interstate Oasis signing, any facility meeting the criteria described above shall be eligible for designation as an Interstate Oasis. Statewide criteria shall not impose additional criteria beyond those listed above to qualify for designation as an Interstate Oasis. However, a business designated as an Interstate Oasis may elect to provide additional products, services, or amenities.

Signing

States electing to provide or allow Interstate Oasis signing should use the following signing practices on the freeway for any given exit to identify the availability of an Interstate Oasis:

1. If adequate sign spacing allows, a separate sign should be installed in an effective location with a spacing of at least 800 feet from other adjacent guide signs, including any Specific Service signs. This sign should be located in advance of the Advance Guide sign or between the Advance Guide sign and the Exit Direction sign for the exit leading to the Oasis. The sign should have a white legend (minimum 10 inch letters) and border on a blue background and should contain the phrase “Interstate Oasis” and the exit number or, for an unnumbered interchange, an action message such as “Next Exit”. Names or logos of businesses designated as Interstate Oases should not be included on this sign.

2. If the spacing of other guide signs precludes use of a separate sign as described in item 1 above, a supplemental panel with a white legend (“Interstate Oasis” in minimum 10 inch letters) and border on a blue background may be appended above or below an existing Advance Guide sign or D9-18 series General Service sign for the interchange.

3. If Specific Service signing (See MUTCD Chapter 2F) is provided at the interchange, a business designated as an Interstate Oasis and having a business logo on the Food and/or Gas Specific Service signs may use a bottom portion of the business's logos to display the word “Oasis.”

4. If Specific Services signs containing the “Oasis” legend as a part of the business logo(s) are not used on the ramp, a sign with a white legend (minimum 6 inch letters) and border on a blue background should be provided on the exit ramp to indicate the direction and distance to the Interstate Oasis, unless the Interstate Oasis is clearly visible and identifiable from the exit ramp. Additional guide signs may be used, if determined to be necessary, along the cross road to guide road users to an Oasis.

A State's policy, program, and procedures should provide for the enactment of appropriate legislation or rules to limit the use of the phrase “Interstate Oasis” on a business” premises, on-site private signing, and advertising media to only those businesses approved by the State as an Interstate Oasis.

Education and Marketing

If a State elects to provide or allow Interstate Oasis signing, the State should undertake educational and marketing efforts, in cooperation with trucking and travel industry partners as appropriate, to familiarize travelers and businesses with the program before it is implemented and during the initial period of implementation.

[FR Doc. E6-17367 Filed 10-17-06; 8:45 am]

BILLING CODE 4910-22-P